DEPARTMENT OF THE INTERIOR

National Park Service

Acceptance of Concurrent Jurisdiction

AGENCY: National Park Service, Department of the Interior.

ACTION: Notice.

SUMMARY: The National Park Service (NPS) has accepted conveyance from the State of Arizona on behalf of the United States concurrent criminal jurisdiction over federally-owned and controlled lands and waters administered by the National Park Service within Chiricahua National Monument, Coronado National Memorial and Fort Bowie National Historic Site in Cochise County, Arizona.

FOR FURTHER INFORMATION CONTACT: Superintendent, Southeast Arizona Group, 4101 East Montezuma Canyon Road, Hereford, AZ 85615, or (520) 366-5515.

SUPPLEMENTARY INFORMATION: Under Arizona Revised Statutes Title 37 Section 620, the governor of the State, upon receipt of a written request from the United States, may cede concurrent criminal jurisdiction over federal lands to the United States. On April 23, 2009, the Honorable Janice K. Brewer, Governor of the State of Arizona, ceded concurrent jurisdiction to the United States for all lands and waters owned or to be acquired by the National Park Service within the authorized boundaries of Chiricahua National Monument, Coronado National Memorial, and Fort Bowie National Historic Site. On September 22, 2009, Dan Wenk, Acting Director of the National Park Service, under the authority granted in Title 40 United States Code, Section 3112, accepted the cession of jurisdiction from the State of Arizona.

Dated: October 14, 2009.
Rick Obernesser,
Acting Associate Director, Visitor and Resource Protection, National Park Service.

[FR Doc. E9-26944 Filed 11-6-09; 8:45 am]

BILLING CODE 4312-CP-P